DEPARTMENT OF TRANSPORTATION

Federal Aviation Administration

14 CFR Part 39

[Docket No. FAA-2014-0121; Directorate Identifier 2013-NM-151-AD; Amendment 39-17928; AD 2014-16-04]

RIN 2120-AA64

Airworthiness Directives; Airbus Airplanes

AGENCY: Federal Aviation Administration (FAA), Department of Transportation (DOT).

ACTION: Final rule.

SUMMARY: We are superseding Airworthiness Directive (AD) 2008-14-17 for certain Airbus Model A330-200 and A340-300 series airplanes. AD 2008-14-17 required a high frequency eddy current (HFEC) inspection, corrective actions if necessary, and modifications. This new AD requires the same actions as those required by AD 2008-14-17, but with a reduced compliance time. This AD was prompted by a determination from a fatigue and damage tolerance evaluation that the compliance time needs to be revised. We are issuing this AD to detect and correct damage of the upper shell structure at the skin and frame interface, which could result in reduced structural integrity of the airframe.

DATES: This AD becomes effective September 19, 2014.

The Director of the Federal Register approved the incorporation by reference of a certain publication listed in this AD as of September 19, 2014.

The Director of the Federal Register approved the incorporation by reference of certain other publications listed in this AD as of August 21, 2008 (73 FR 40958, July 17, 2008).

ADDRESSES: You may examine the AD docket on the Internet at http://www.regulations.gov/#!docketDetail;D=FAA-2014-0121; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2008-14-17, Amendment 39-15612 (73 FR 40958, July 17, 2008). AD 2008-14-17 applied to certain Airbus Model A330-200 and A340-300 series airplanes. The NPRM published in the Federal Register on March 3, 2014 (79 FR 11717).

The European Aviation Safety Agency (EASA), which is the Technical Agent for the Member States of the European Community, has issued EASA Airworthiness Directive 2013-0158, dated July 22, 2013 (referred to after this as the Mandatory Continuing Airworthiness Information, or “the MCAI”), to correct an unsafe condition for certain Airbus Model A330-200 and A340-300 series airplanes. The MCAI states:

During fatigue tests (EF3) on an A340-600 aeroplane, multiple damage was found in the upper side shell structure at skin and frame (FR) 84 and 85 interface, from stringer 6 to 15 Left-Hand (LH) and Right Hand (RH). This damage occurred between 58 341 and 72 891 simulated flight cycles (FC).

Due to the higher Design Service Goal and different design (e.g. skin thickness) for A330-200 and A340-300 aeroplanes, the damage assessment concluded that these aeroplanes can potentially be impacted.

This condition, if not detected and corrected, could result in reduced structural integrity of the airframe.

Prompted by these findings, EASA issued [an] AD * * * to require a one-time inspection and a modification to improve the upper shell structure.

EASA AD 2007-0269R1 [http://ad.easa.europa.eu/blob/easa_ad_2007_0269R1_superseded.pdf/AD_2007-0269R1_2, which corresponds to FAA AD 2008-14-17, Amendment 39-15612 (73 FR 40958)] was issued to clarify the fact that the [EASA] AD was not applicable to A340-300 aeroplanes on which both Airbus Mod 44205 and Mod 45012 have been embodied in production.

Since that [EASA] AD was issued, in the frame of a new fatigue and damage tolerance evaluation, taking into account the aeroplane utilization, the threshold and intervals were reassessed. This reassessment concluded that, in that specific case, the threshold for modifying the aeroplane must be reduced.

For the reasons described above, this [EASA] AD retains the requirements of EASA AD 2007-0269R1, which is superseded, but requires these actions within the new thresholds.

You may examine the MCAI in the AD docket on the Internet at http://www.regulations.gov/#!documentDetail;D=FAA-2014-0121-0002.

Comments

We gave the public the opportunity to participate in developing this AD. We received no comments on the NPRM (79 FR 11717, March 3, 2014) or on the determination of the cost to the public.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the available data and determined that air safety and the public interest require adopting this AD with the changes described previously and minor editorial changes. We have determined that these minor changes:

• Are consistent with the intent that was proposed in the NPRM (79 FR 11717, March 3, 2014) for correcting the unsafe condition; and

• Do not add any additional burden upon the public than was already proposed in the NPRM (79 FR 11717, March 3, 2014).

We also determined that these changes will not increase the economic burden on any operator or increase the scope of this AD.

Costs of Compliance

We estimate that this AD affects 7 airplanes of U.S. registry.

We estimate the following costs to comply with this AD:

Estimated costs
Action | Labor cost | Parts cost | Cost per product | Cost on U.S. operators
Inspection and Modification [retained actions from AD 2008-14-17, Amendment 39-15612 (73 FR 40958, July 17, 2008)] | 300 work-hours × $85 per hour = $25,500 | $72,730 | $98,230 | $687,610

The new requirements of this AD add no additional economic burden.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0121; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-14-17, Amendment 39-15612 (73 FR 40958, July 17, 2008), and adding the following new AD:

2014-16-04 Airbus: Amendment 39-17928. Docket No. FAA-2014-0121; Directorate Identifier 2013-NM-151-AD.

(a) Effective Date

This AD becomes effective September 19, 2014.

(b) Affected ADs

This AD replaces AD 2008-14-17, Amendment 39-15612 (73 FR 40958, July 17, 2008).

(c) Applicability

This AD applies to the airplanes, certificated in any category, identified in paragraphs (c)(1) and (c)(2) of this AD.

(1) Airbus Model A330-201, -202, -203, -223, and -243 airplanes, all manufacturer serial numbers (MSNs), on which Airbus Modification 44205 has been embodied in production, except those on which Airbus Modification 52974 or Modification 53223 has been embodied in production.

(2) Airbus Model A340-311, -312, and -313 airplanes, all MSNs on which Airbus Modification 44205 has been embodied in production, except those on which Airbus Modification 52974, Modification 53223, or Modification 45012 has been embodied in production.

(d) Subject

Air Transport Association (ATA) of America Code 53, Fuselage.

(e) Reason

This AD was prompted by a determination from a fatigue and damage tolerance evaluation that the compliance time of the high frequency eddy current (HFEC) inspection for cracking, and modification of the upper shell structure of the fuselage needs to be revised. We are issuing this AD to detect and correct damage of the upper shell structure at the skin and frame interface, which could result in reduced structural integrity of the airframe.

(f) Compliance

Comply with this AD within the compliance times specified, unless already done.

(g) Retained Inspection

This paragraph restates the requirements of paragraph (f)(1) of AD 2008-14-17, Amendment 39-15612 (73 FR 40958, July 17, 2008), with reduced compliance times and revised service information. For Airbus Model A330-200 series airplanes, as identified in paragraph (c) of this AD, on which Modification 45012 has been embodied in production: Within the applicable compliance times specified in paragraphs (g)(1), (g)(2), (g)(3), and (g)(4) of this AD, do the HFEC inspection for cracking, and corrective actions as applicable; and modify the upper shell structure of the fuselage; in accordance with the Accomplishment Instructions of Airbus Service Bulletin A330-53-3152, Revision 3, dated December 22, 2011. Do all applicable corrective actions before further flight.

(1) For airplanes pre-modification 48827 with short range utilization: At the later of the times specified in paragraph (g)(1)(i) or (g)(1)(ii) of this AD.

(i) Prior to 24,400 total flight cycles or 85,400 total flight hours, whichever occurs first.

(ii) Within 12 months after the effective date of this AD without exceeding 25,400 total flight cycles.

(2) For airplanes pre-modification 48827 with long range utilization: At the later of the times specified in paragraph (g)(2)(i) or (g)(2)(ii) of this AD.

(i) Prior to 18,900 total flight cycles or 122,900 total flight hours, whichever occurs first.

(ii) Within 12 months after the effective date of this AD without exceeding 25,400 total flight cycles.

(3) For airplanes post-modification 48827 with short range utilization: At the later of the times specified in paragraph (g)(3)(i) or (g)(3)(ii) of this AD.

(i) Prior to 16,400 total flight cycles or 57,400 total flight hours, whichever occurs first.

(ii) Within 12 months after the effective date of this AD without exceeding 17,100 total flight cycles or 94,700 total flight hours, whichever occurs first.

(4) For airplanes post-modification 48827 with long range utilization: At the later of the times specified in paragraph (g)(4)(i) or (g)(4)(ii) of this AD.

(i) Prior to 12,700 total flight cycles or 82,700 total flight hours, whichever occurs first.

(ii) Within 12 months after the effective date of this AD without exceeding 17,100 total flight cycles or 94,700 total flight hours, whichever occurs first.

(h) Retained Modification

This paragraph restates the requirements of paragraph (f)(2) of AD 2008-14-17, Amendment 39-15612 (73 FR 40958, July 17, 2008), with revised paragraph formatting. For Airbus Model A330-200 and A340-300 series airplanes as identified in paragraph (c) of this AD, on which Modification 45012 has not been embodied in production: At the later of the compliance times specified in paragraphs (h)(1) and (h)(2) of this AD, modify the upper shell structure of the fuselage, in accordance with the Accomplishment Instructions of Airbus Service Bulletin A330-53-3157, or Airbus Service Bulletin A340-53-4163, both dated July 5, 2006, as applicable.

(1) For the airplanes identified in paragraphs (h)(1)(i) and (h)(1)(ii) of this AD.

(i) For Model A330-200 series airplanes, prior to 6,600 total flight cycles.

(ii) For Model A340-300 series airplanes, prior to 14,000 total flight cycles.

(2) Within 90 days after August 21, 2008 (the effective date of AD 2008-14-17, Amendment 39-15612 (73 FR 40958, July 17, 2008)).

(i) Credit for Previous Actions

This paragraph provides credit for actions required by paragraph (g) of this AD, if those actions were performed before the effective date of this AD using the service information specified in paragraph (i)(1), (i)(2), or (i)(3) of this AD.

(1) Airbus Service Bulletin A330-53-3152, dated April 10, 2007, which was incorporated by reference in AD 2008-14-17, Amendment 39-15612 (73 FR 40958,

July 17, 2008).

(2) Airbus Service Bulletin A330-53-3152, Revision 1, dated May 5, 2009, which is not incorporated by reference in this AD.

(3) Airbus Service Bulletin A330-53-3152, Revision 2, dated July 27, 2011, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) European Aviation Safety Agency Airworthiness Directive 2013-0158, dated July 22, 2013, for related information. You may examine the MCAI in the AD docket on the Internet at http://www.regulations.gov/#!documentDetail;D=FAA-2014-0121-0002.

(2) Service information identified in this AD that is not incorporated by reference in this AD is available at the addresses specified in paragraphs (l)(5) and (l)(6) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on September 19, 2014.

(i) Airbus Service Bulletin A330-53-3152, Revision 3, dated December 22, 2011.

(ii) Reserved.

(4) The following service information was approved for IBR on August 21, 2008 (73 FR 40958, July 17, 2008).

(i) Airbus Service Bulletin A330-53-3157, dated July 5, 2006.

(ii) Airbus Service Bulletin A340-53-4163, dated July 5, 2006.

(5) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 23, 2014.
John P. Piccola,
Acting Manager, Transport Airplane Directorate, Aircraft Certification Service.

[FR Doc. 2014-18461 Filed 8-14-14; 8:45 am]

BILLING CODE 4910-13-P